DEPARTMENT OF COMMERCE

Foreign-Trade Zones Board

[Docket 24-2008]

Foreign-Trade Zone 161 - Sedgwick County, Kansas

Amendment to Application for Subzone Status

Hawker Beechcraft Corporation

(Aircraft Manufacturing)

Wichita and Salina, Kansas

A request has been submitted to the Foreign-Trade Zones Board (the Board) by Hawker Beechcraft Corporation (HBC) to amend the company’s application requesting special-purpose subzone status for the company’s aircraft manufacturing facilities located in Wichita and Salina, Kansas.

HBC is now requesting to include additional finished products in the company’s requested scope of authority. The additional finished products will be manufactured using the same imported parts and components (duty-free to 15 percent) as described in the original Federal Register notice (73 FR 21903-21904, 4/23/08). The additional finished products (duty-free) are as follows: propellers, rotors and parts thereof (8803.10); undercarriages and parts thereof (8803.20); and, other parts of airplanes (8803.30).

Public comment is invited from interested parties. Submissions (original and 3 copies) shall be addressed to the Board’s Executive Secretary at the address listed below. The closing period for their receipt is October 20, 2008. Rebuttal comments in response to material submitted during the foregoing period may be submitted during the subsequent 15-day period (to November 3, 2008).

A copy of the application amendment and accompanying exhibits will be available at each of the following addresses: U. S. Department of Commerce Export Assistance Center, 150 North Main Street, Suite 200, Wichita, Kansas; and, Office of the Executive Secretary, Foreign-Trade Zones Board, Room 2111, U.S. Department of Commerce, 1401 Constitution Avenue, NW, Washington, D.C., 20230. For further information contact Christopher Kemp at christopher_kemp@ita.doc.gov or (202) 482-0862.

Dated: September 4, 2008.
Andrew McGilvray,
Executive Secretary.

[FR Doc. E8-21850 Filed 9-17-08; 8:45 am]

BILLING CODE 3510-DS-S